DEPARTMENT OF ENERGY

Federal Energy Regulatory Commission

Notice of Application for Amendment of License and Soliciting Comments, Motions to Intervene, and Protests

September 7, 2001.

a. Application Type: Application to Amend License for the Horseshoe Bend Hydroelectric Project.

b. Project No: 5376-062.

c. Date Filed: August 22, 2001.

d. Applicant: Horseshoe Hydroelectric Company.

e. Name of Project: Horseshoe Bend Hydroelectric Project.

f. Location: The project is located on the Payette River in Boise County, Idaho.

g. Filed Pursuant to: Federal Power Act, 16 U.S.C. 791(a)-825(r).

h. Applicant Contact: Kathy Buchanan, Horseshoe Bend Hydroelectric Company, P.O. Box 9106, Boise, ID 83701. Tel: (208) 345-7515.

i. FERC Contact: Any questions on this notice should be addressed to Mr. Vedula Sarma at (202) 219-3273 or by e-mail at vedula.sarma@ferc.fed.us.

j. Deadline for filing comments and/or motions: October 9, 2001.

All documents (original and eight copies) should be filed with: David P. Boergers, Secretary, Federal Energy Regulatory Commission, 888 First Street, NE, Washington, DC 20426. Comments, protests and interventions may be filed electronically via the Internet in lieu of paper. See, 18 CFR 385.2001(a)(1)(iii) and the instructions on the Commission's Web site under the “e-Filing” link.

Please include the project number (5376-062) on any comments or motions filed.

k. Description of Filing: The licensee is proposing construction of facilities in two phases to prevent sediment from entering or accumulating in the power canal and reducing its flow capacity. The Phase I facilities include (a) widening of the entrance of the canal bottom width from 79-foot to 360-foot, (b) installation of a 540-foot long elevated sill (crest elevation at 2600.7 feet), (c) a diverging channel downstream of the sill, (d) a sluiceway on the river side of the sill, trash racks over sluice way boxes etc. Features of the Phase II include (a) a desanding/settling basin in the canal area, desander sluice boxes end-to-end across the canal bed, access ramp for maintenance of desander and other facilities. Phase II facilities will be constructed only if required after evaluating the effectiveness of Phase I facilities.

l. Locations of the Application: A copy of the application is available for inspection and reproduction at the Commission's Public Reference Room, located at 888 First Street, NE, Room 2A, Washington, DC 20426, or by calling (202) 208-1371. This filing may also be viewed on the Web at http://www.ferc.gov using the “RIMS” link, select “Docket#” and follow the instructions (call 202-208-2222 for assistance).

m. Individuals desiring to be included on the Commission's mailing list should so indicate by writing to the Secretary of the Commission.

n. This notice also consists of the following standard paragraphs:

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

Linwood A. Watson, Jr.,
Acting Secretary.

[FR Doc. 01-23102 Filed 9-14-01; 8:45 am]

BILLING CODE 6717-01-P